DEPARTMENT OF AGRICULTURE

Forest Service

Humboldt-Toiyabe National Forest; Nevada; Mountain City, Ruby Mountains, and Jarbidge Ranger Districts Combined Travel Management Project

AGENCY: Forest Service, USDA.

ACTION: Notice of intent to prepare an environmental impact statement.

SUMMARY: Based on the content of comments received during scoping the Humboldt-Toiyabe National Forest will prepare an environmental impact statement (EIS) to disclose the impacts associated with the following proposed actions:

• Changes to the forest transportation system, including designation of certain unauthorized routes by motor vehicle use, changing designation of National Forest System (NFS) roads to NFS trails open for motor vehicle use, and closing some NFS roads for access or environmental reasons.

• Prohibiting motor vehicle use off designated roads and trails consistent with the national travel management rule.

• The three ranger districts currently manage approximately 1,100 miles of motor vehicle routes for public use. The proposed action could designate as many as 1,300 miles of unauthorized routes to meet administrative and utilization needs across the three districts. Many of the unauthorized routes considered for designation have been in existence for many years but have not been recognized as a part of the forest transportation system.

DATES: The districts began the travel management process in 2005 and held an initial set of open houses in late 2005 and early 2006. Between 2006 and 2009, the district rangers met informally with county and tribal officials as well as user groups. The districts have accepted comments on this project since January 12, 2009 and will continue to do so until the publication of a draft EIS during the second quarter of 2010.

ADDRESSES: Written comments should he sent to: Travel Management Team, Mountain City Ranger District, 2035 Last Chance Road, Elko, NV 89801. E-mail comments may be submitted to comments-intermtn-humboldt-toiyabe-rubymtns-jarbidgea@fs.fed.us.

FOR FURTHER INFORMATION CONTACT: James Winfrey, Humboldt-Toiyabe National Forest, 1200 Franklin Way, Sparks, NV 89431. Phone: 775-355-5308.

SUPPLEMENTARY INFORMATION:

Background

Over the past few decades, the availability and capability of motorized vehicles, particularly off-highway vehicles (OHVs) and sport utility vehicles (SUVs) has increased. Nationally, the number of OHV users has climbed sevenfold in the past 30 years, from approximately 5 million in 1972 to 36 million in 2000.

Unmanaged recreation, including impacts from OHVs, is one of the “Four Key Threats Facing the Nation's Forests and Grasslands” (USDA Forest Service June 2004). Unmanaged OHV use has resulted in unplanned roads and trails, erosion, watershed and habitat degradation, and impacts to cultural resource sites.

On November 9, 2005, the Forest Service published its final travel management regulations in the Federal Register (FR Vol. 70, No. 216, Nov. 9, 2005, pp. 68264-68291). This Travel Management Rule requires designation of those roads, trails, and areas that are open to motor vehicle use in national forests. Designations will be made by class of vehicle and, if appropriate, by time of year. The final rule prohibits the use of motor vehicles on the designated system. Only NFS roads and trails are designated for motorized vehicle use. For an unauthorized route to be designated, it must first be added to the forest transportation system.

On some NFS lands long managed as open to cross-country motor vehicle travel has resulted in unplanned, unauthorized roads and trails. These routes were generally developed without environmental analysis or public involvement, and are not designated as NFS roads and trails included in the forest transportation system. Nevertheless, some unauthorized routes are well-sited, provide excellent opportunities for outdoor recreation by motorized and non motorized users, and would enhance the NFS of designated roads, trails, and areas. Other unauthorized routes are poorly located and cause unacceptable impacts to Forest resources. The Mountain City, Ruby Mountains, and Jarbidge Ranger Districts recently completed an inventory of unauthorized routes and have identified approximately 1,300 miles of unauthorized routes within the boundaries of the districts.

Purpose and Need for Action

On November 9, 2005, the Secretary of Agriculture adopted rules which provided for a fundamental change in the management of motor vehicle use on the national forests (70 FR 68288). Until that time, there was a presumption that all roads, trails, and areas were open to use by motor vehicles. If use by motor vehicles was not appropriate for any reason, the Forest Service had to take action to close specific roads, trails, or areas and prohibit motorized use. This resulted in a largely unplanned transportation system, with many routes established by repeated use, and damage to resources occurring from uncontrolled cross country travel.

The 2005 rule provided a mechanism for transition to a new system for managing motor vehicle use. Following appropriate environmental analysis and public involvement, those roads, trails, and areas designated for motorized use will be identified on a motor vehicle use map, and any motor vehicle use not consistent with those designations will be prohibited by the rule (36 CFR 261.13). In this way, the national forests will provide sustainable transportation systems for travel and recreation and for management and protection of resources prone to damage from unmanaged use.

The rule also provides that the management of motor vehicle use is to be an ongoing process, with continuing evaluation of the designations and revision as needed (36 CFR 212.54). It is expected that many changes to the designated system will be made over time to meet recreation and transportation needs and protect national forest resources.

The number of unauthorized routes across the Mountain City. Ruby Mountains, and Jarbidge Ranger Districts has increased over many years. Some of these routes were established in areas where there is the potential for resource damage. Prohibiting motor vehicles from traveling off designated roads and trails would reduce the effects to natural resources caused by cross-country travel. This action responds to the goals and objectives outlined in the Humboldt National Forest Land and Resource Management Plan (Forest Plan) (USDA Forest Service 1986). It helps move the project area towards the desired conditions described in the Forest Plan by allowing motor vehicle use where it will not unacceptably impact forest resources or unnecessarily impact other forest users.

The purpose of the proposed action is to designate roads, trails, and areas for motor vehicle use to meet recreation, access, and management objectives while limiting environmental impacts and moving towards a sustainable transportation system across the three districts.

Proposed Action

In general, the routes proposed for addition to the forest transportation system are rough, unmaintained, and unsuitable for two-wheel drive low-clearance vehicles. They may be used by Forest Service personnel in the administration of their duties, ranchers accessing portions of their allotments, geologists searching for minerals, hunters and hikers gaining access to remote areas, and others driving for pleasure on NFS lands.

Following issuance of the decision, all roads and trails designated for motor vehicle use would be identified on a motor vehicle use map. Motor vehicle use that is not consistent with the designations will be prohibited under the terms of 36 CFR 261.13. However, the prohibitions on motor vehicle use will not apply to the following activities, as detailed in 36 CFR 261.13:

• Aircraft.

• Watercraft.

• Over-snow vehicles.

• Limited administrative use by the Forest Service.

• Use of any fire, military, emergency, or law enforcement vehicle for emergency purposes.

• Authorized use of any combat or combat-support vehicle for national defense purposes.

• Law enforcement response to violations of law, including pursuit.

• Motor vehicle use that is specifically authorized under a written authorization issued under Federal law or regulation (e.g., woodcutting permits, term grazing permits, approved plans of operations) (36 CFR 212.51a).

• Use of a road or trail that is authorized by a legally documented right-of-way held by a State, county, or other public road authority.

Responsible Officials

Tom Montoya, District Ranger, Mountain City Ranger District, 2035 Last Chance Road, Elko, NV 89801; and Car Abbas, District Ranger, Ruby Mountains and Jarbidge Ranger District, 140 Pacific Ave., P.O. Box 246, Wells, NV 89835.

Nature of Decision To Be Made

Based on this environmental analysis, the district rangers will decide:

• Which routes motorized traffic would he restricted to, and what areas, if any, would he open to cross-country motorized travel.

• Which alternative best represents the minimum road system needed for safe and efficient travel and for administration, utilization, and protection of NFS lands.

Scoping Process

The districts have accepted comments on this project since January 12, 2009, and will continue to do so until the publication of a draft EIS during the second quarter of 2010. A copy of the Travel Analysis Process (TAP) is available on the Internet at http://www.fs.fed.us/r4/htnf/ and at the district offices in Elko and Wells, Nevada. Copies of project maps can also he viewed on the Internet, or a copy of the maps on DVD can be requested by contacting the district rangers at the above addresses. Hard copies of the maps are also available for viewing at the district offices and public libraries in Elko and Wells, Nevada. Copies of these maps have also been provided to Elko County and local tribal offices.

Comment Requested

Comments received before the draft EIS is published will he given consideration.

Dated: October 5, 2009.
Torn Montoya,
Mountain City District Ranger.
Dated: October 5, 2009.
Nancy Taylor,
Acting for Gar Abbas, Ruby Mountains and Jarbidge District Ranger.

[FR Doc. E9-24900 Filed 10-16-09; 8:45 am]

BILLING CODE 3410-11-M